DEPARTMENT OF COMMERCE

National Institute of Standards and Technology

[Docket No.: 040318097-4097-01]

RIN 0693-ZA57

Professional Research Experience Program (PREP); Availability of Funds

AGENCY: National Institute of Standards and Technology, Commerce.

ACTION: Notice.

SUMMARY: The National Institute of Standards and Technology (NIST) announces that the Professional Research Experience Program (PREP) is soliciting applications for financial assistance from accredited colleges and universities to enable those institutions to provide laboratory experiences and financial assistance to undergraduate and graduate students and post-doctoral associates at the NIST, Boulder Laboratories in Boulder, Colorado. In Boulder, NIST carries out programs in five laboratories—its Electronics and Electrical Laboratory (EEEL), Chemical Science and Technology Laboratory (CSTL), Physics Laboratory (PL), Materials Science and Engineering Laboratory (MSEL), and Information Technology Laboratory (ITL). The PREP seeks to encourage the growth and progress of science and engineering in the United States by providing research opportunities for students and post-doctoral associates, enabling them to collaborate with internationally known NIST scientists, exposing them to cutting-edge research. The PREP will promote students' pursuit of degrees in science and engineering, and post-doctoral associates' professional development in science and engineering. The NIST Administrative Coordinator and NIST scientists will work with appropriate department chairs, outreach coordinators, and directors of multi-disciplinary academic organizations to identify students and programs that would benefit from the PREP experience.

DATES: All applications, paper and electronic, must be received no later than 5 pm Mountain Standard Time (MST) on May 12, 2004. Applications received after this deadline will be returned with no further consideration.

ADDRESSES: Paper applications must be submitted to Ms. Phyllis Wright, Administrative Coordinator, National Institute of Standards and Technology, Division 346.16, 325 Broadway, Building 1, Room 4007, Boulder, CO 80305-3328.

FOR FURTHER INFORMATION CONTACT: Ms. Phyllis Wright, Administrative Coordinator, National Institute of Standards and Technology, Division 346.16, 325 Broadway, Boulder, CO 80305-3328; Tel.: (303) 497-3244; e-mail: pkwright@boulder.nist.gov or with assistance for using Grants.gov contact support@grants.gov. Further information regarding this announcement may also be found at http://www.grants.gov.

SUPPLEMENTARY INFORMATION:

Applications

Users of Grants.gov (www.grants.gov) will be able to download a copy of the application package, complete it off line, and then upload and submit the application package and associated proposal information via the Grants.gov website.

For electronic submission—Applicants should follow the Application Instructions provided at Grants.gov when submitting a response to this Notice. Applicants are encouraged to start early and not wait to the approaching due date before logging on and reviewing the instructions for submitting an application through Grants.gov.

For paper submission—Applicants are required to submit one signed original and two copies of the full application. All incomplete applications will be returned to the applicant. NIST determines whether an application has been submitted before the deadline by date/time stamping the applications as they are physically received in the PREP Administrator's office.

Funding Availability

Applications for the PREP will be considered for up to five years. Funding for students in the area of materials science and engineering will not be available in FY 2004, but may become available in future years of an award made pursuant to this notice. Funding for the PREP will be provided as fellows are identified by the successful applicant and approved by NIST. Fellowship support from NIST under the PREP is contingent upon the availability of NIST program funds and the need and selection by NIST advisors.

NIST anticipates awarding one or more cooperative agreements to eligible institution(s). In FY 1999, five cooperative agreements were awarded to two institutions, providing approximately $7.982 million since their inception and supporting 162 PREP fellows. For the most recent year of the PREP, FY 2003, NIST supported 89 PREP fellowships (some students received more than one fellowship) totaling approximately $2.340 million.

Statutory Authority: 15 U.S.C 278g-1.

CFDA Name and Number: Measurement and Engineering Research and Standards—11.609.

Eligibility: Eligible applicants are accredited educational institutions of higher education in the United States and its territories that offer undergraduate and graduate degrees in physics, chemistry, mathematics, computer science, or engineering. Undergraduate and graduate students who receive fellowships under the PREP must be citizens of the United States or lawfully admitted to the United States for permanent residence, show evidence of a 3.0 or higher grade point average in a curriculum acceptable to the sponsoring educational institution and NIST, and must be enrolled full-time at a sponsoring institution. Post-doctoral associates who receive fellowships under the PREP must be citizens of the United States, show proof of having earned a doctorate within the last five years, and must be affiliated with a sponsoring institution.

Review and Selection Process: All PREP applications are submitted to the Administrative Coordinator. Each application is examined for completeness and responsiveness. Substantially incomplete or non-responsive proposals will not be considered for funding, and the applicant will be notified. The PREP Administrative Coordinator will retain one copy of each non-responsive application for three years for record keeping purposes. The remaining copies will be destroyed. Applications should include the following:

(A) Proposal Summary: Proposals may be structured in any way that the applicant believes will best present the proposed project. A format that NIST offers for consideration by the applicant is as follows:

(1) Introduction: Describe the institution's qualifications for conducting the proposed project. Applicant institutions must insure the availability of students for on-site work experiences in Boulder, Colorado concurrently with the university classroom studies.

(2) Needs Assessment: Document and explain the needs to be met by the proposed project or problems to be solved as a result of conducting the proposed project.

(3) Objectives: Provide detailed expected project outcomes and benefits to the college or university expressed in measurable terms.

(4) Evaluation: Delineate plans for measuring success or determining the degree to which the project objectives were met.

(5) Other: Applicants may provide additional information, which is not required to conform to a prescribed format. For example, applicants may wish to describe any plans for continuing the project with necessary funding beyond the Federal funding currently requested. In addition, applicants may wish to describe the application criteria they plan to use in selecting undergraduate and graduate students and post-doctoral associates for the fellowship program.

(B) Proposal Budget: Applicants should use the SF-424A to complete the budget submission. In addition to the SF-424A applicant must provide a detailed budget narrative to explain fully and justify all proposed project funding including each level of fellowship (undergraduate, graduate, and post-graduate) and other resources. Applications should contain annual budgets using the following assumptions:

Undergraduate Fellowship Program: 10 fellows at 200 hours per semester.

Cost elements to include in annual budget: Stipend or wage (Freshman @ $9.00, Sophomores @ $10, Juniors @ $11, and Seniors @ $12 per hour), full tuition assistance at the in-state rate, fringe benefits, and indirect costs.

Graduate Fellowship Program: 10 fellows at 20 hours per week during the school year (9 months); 40 hours per week in the summer (3 months).

Cost elements to include in annual budget: Stipend or wage (equivalent to what a research assistant in the student's given department would receive), full tuition assistance at the in-state rate, fringe benefits (which may include fees and health insurance), and indirect costs.

Post-Doctorate Fellowship Program: 5 fellows at 40 hours per week.

Cost elements to include in annual budget: stipend or wage, relocation expenses, and other miscellaneous expenses (travel, conferences, training).

Each applicant should include necessary costs to provide oversight of the program. All successful applicants will be required to have a PREP coordinator. Some the responsibilities of the successful applicant's PREP coordinator include: Serving as a single point of contact for University staff, PREP applicants and participants, and NIST research scientists and engineers; assisting students, University sponsors, and NIST sponsors in implementing the program and resolving any difficulties that may arise, and serving as the signatory on all agreements between NIST, the University and each fellow.

The number of fellows and number of hours per semester are purely illustrative and do not reflect any commitment as to the number of fellowships that may be approved under any resulting cooperative agreement.

(C) Applicants must submit the Application for Federal Assistance (SF-424), Budget Information, Non-construction Programs (SF-424A), and the Assurances, Nonconstruction Programs (SF424B), and Disclosure of Lobbying Activities SF-LLL during initial submission of the application. The Department of Commerce Form(s) CD-511, Certifications Regarding Debarment, Suspension and Other responsibility Matters; Drug Free Workplace Requirements and Lobbying, and if applicable the Department of Commerce Form(s) CD-346 Applicant for Funding Assistance (Non-Profits, For-Profits, and Individuals), will be required during the final review process. Each complete and responsive PREP application packet will be reviewed by at least three independent, objective NIST employees, who are knowledgeable in the subject matter of this announcement and its objectives and are able to conduct a review based on the Evaluation Criteria for the PREP as described in this notice.

Each application will be reviewed by three independent, objective NIST employees who are knowledgeable about the PREP. The selection of institutions to be recommended for an award will be made by the Director of the NIST Laboratories in Boulder, Colorado (“Director”), the Selecting Official. In recommending institutions for funding the Director will take into consideration the results of the evaluations and scores of the independent reviewers, the interests of the NIST laboratories, and the Director's judgment as to which institutions, taken as a whole, are likely to best further the goals of the PREP. The final selection of institutions and award of cooperative agreements will be made by the NIST Grants Officer in Gaithersburg, Maryland, based on compliance with application requirements as published in this notice, compliance with applicable legal and regulatory requirements, compliance with Federal policies that best further the objectives of the Department of Commerce, and whether the recommended applicants appear to be responsible. Unsatisfactory performance on any previous Federal award may result in an application not being considered for funding. Applicants may be asked to modify objectives, work plans, or budgets, and provide supplemental information required by the agency prior to award. The decision of the Grants Officer is final.

Unsuccessful applicants will be notified in writing. The PREP Administrative Coordinator will retain one copy of each unsuccessful application for three years for record keeping purposes. The remaining copies will be destroyed.

Evaluation Criteria: Applicants must be able to insure the availability of students for on site work experiences at the NIST Laboratories in Boulder, Colorado concurrently with the university classroom studies. The student must also be enrolled in an academic program acceptable to both the sponsoring institution and NIST while working in the Laboratories. The applications will be evaluated and scored on the basis of the following evaluation criteria:

(A) Soundness of the applicant's academic program, proposed project objectives, and appropriateness of proposed student work assignments in light of ongoing research at NIST/Boulder and the students' academic programs. (30 points).

(B) Experience in providing students pursuing degrees in physics, chemistry, mathematics, computer science, or engineering with work experiences in laboratories or other settings consistent with furthering the students' education. (30 points).

(C) Adequacy and reasonableness of plans for administering the project and coordinating with the PREP Administrative Coordinator in Boulder. (20 points).

(D) Cost realism of the proposed project budget (proposed fellowships and other proposed costs) in light of the activities proposed and the objectives of the sponsoring institution and NIST. (20 points).

Cost Share Requirements: Cost sharing and matching are not required under this program. However, in the interest of furthering the education and development of future scientists and engineers, applicants are encouraged to cost share on a voluntary basis. Voluntary cost sharing may include any eligible costs under the applicable cost principles that meet the test of reasonableness, allocability, and allowability. Such voluntary cost sharing may include, but is not limited to, cash contributions for direct costs, contributions of indirect costs, or in-kind contributions. While cost sharing is not required, any cost share contribution will be taken into consideration in reviewing the competitiveness of the proposed project budget.

Applicants are encouraged to propose to cover indirect costs as cost share under this program. However, indirect costs are eligible project costs. Any indirect costs proposed in an application under this program must not exceed the indirect cost rate negotiated with the applicant's cognizant or oversight Federal agency prior to the proposed effective date of the award.

The Department of Commerce Pre-Award Notification Requirements for Grants and Cooperative Agreements: The Department of Commerce Pre-Award Notification Requirements for Grants and Cooperative Agreements contained in the Federal Register notice of October 1, 2001 (66 FR 49917), as amended by the Federal Register notice published on October 30, 2002 (67 FR 66109), are applicable to this announcement. On the form SF-424, the applicant's 9-digit Dun and Bradstreet Data Universal Numbering System (DUNS) number must be entered in the Applicant Identifier block.

Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 14.36, and in section 20 of the Department of Commerce Pre-Award Notification Requirements, 66 FR 49917 (2001), as amended by the Federal Register notice published on October 30, 2002 (67 FR 66109). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Initial Screening of all Applications: All applications received in response to this announcement will be reviewed to determine whether or not they are complete and responsive to the scope of the stated objectives for each program. Incomplete or non-responsive applications will not be reviewed for technical merit. The Program will retain one copy of each non-responsive application for three years for record keeping purposes. The remaining copies will be destroyed.

Fees and/or Profit: It is not the intent of NIST to pay fee or profit for any of the financial assistance awards that may be issued pursuant to this announcement.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, FDA, and other Federal agencies on these topics, and all Presidential statements of policy on these topics.

On December 3, 2000, the U.S. Department of Health and Human Services (DHHS) introduced a new Federal-wide Assurance of Protection of Human Subjects (FWA). The FWA covers all of an institution's Federally supported human subjects research, and eliminates the need for other types of Assurance documents. The Office for Human Research Protections (OHRP) has suspended processing of multiple project assurance (MPA) renewals. All existing MPAs will remain in force until further notice. For information about FWAs, please see the OHRP Web site at http://ohrp.osophs.dhhs.gov/humansubjects/assurance/fwas.htm.

In accordance with the DHHS change, NIST will continue to accept the submission of human subjects protocols that have been approved by Institutional Review Boards (IRBs) possessing a current, valid MPA from DHHS. NIST also will accept the submission of human subjects protocols that have been approved by IRBs possessing a current, valid FWA from DHHS. NIST will not issue a single project assurance (SPA) for any IRB reviewing any human subjects protocol proposed to NIST.

On August 9, 2001, the President announced his decision to allow Federal funds to be used for research on existing human embryonic stem cell lines as long as prior to his announcement (1) the derivation process (which commences with the removal of the inner cell mass from the blastocyst) had already been initiated and (2) the embryo from which the stem cell line was derived no longer had the possibility of development as a human being. NIST will follow guidance issued by the National Institutes of Health at http://ohrp.osophs.dhhs.gov/humansubjects/guidance/stemcell.pdf for funding such research.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Type of Funding Instrument: The funding instrument will be a cooperative agreement. NIST will be “substantially involved” in the project by way of collaboration between NIST scientists and faculty, students, and associates of recipient institutions. Please see the Department of Commerce Grants and Cooperative Agreements Interim Manual which may be found on the Internet at: http://www.osec.doc.gov/oebam/GCA_manual.htm.

Matching Funds: Although the program described in this notice does not require cost share, if it is determined that your proposal falls within the authority of 19 U.S.C. 2543-45, cost share will be required as follows:

Pursuant to 19 U.S.C. 2543-45, financial assistance shall not exceed 75 percent of such program or activity, when the primary purpose of such program or activity is—

(1) To increase the awareness of proposed and adopted standards-related activities;

(2) To facilitate international trade through the appropriate international and domestic standards-related activities;

(3) To provide adequate United States representation in international standards-related activities; and

(4) To encourage United States exports through increased awareness of foreign standards-related activities that may affect United States exports.

Limitation of Liability: In no event will the Department of Commerce be responsible for proposal preparation costs if these programs fail to receive funding or are cancelled because of other agency priorities. Publication of this announcement does not oblige the agency to award any specific project or to obligate any available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for notices relating to public property, loans, grants, benefits or contracts (5 U.S.C. 553 (a)). Because notice and comment are not required under 5 U.S.C. 553, or any other law, for notices relating to public property, loans, grants, benefits or contracts (5 U.S.C. 553(a)), a Regulatory Flexibility Analysis is not required and has not been prepared for this notice, 5 U.S.C. 601 et seq.

Dated: April 2, 2004.
Hratch G. Semerjian,
Acting Director, NIST.

[FR Doc. 04-8125 Filed 4-9-04; 8:45 am]

BILLING CODE 3510-13-P